ENVIRONMENTAL PROTECTION AGENCY

[EPA-HQ-OPP-2006-0955; FRL-9930-59]

Product Cancellation Order for Certain Pesticide Registrations

AGENCY: Environmental Protection Agency (EPA).

ACTION: Notice.

SUMMARY: This notice announces EPA's order for cancellation of certain pesticide products, identified in Table 1, Unit II, which were voluntarily deleted by the registrant and accepted by the Agency, pursuant to the Federal Insecticide, Fungicide, and Rodenticide Act (FIFRA). This cancellation order follows a March 13, 2013 Federal Register, Notice of Receipt of Request from the registrant listed in Table 2 of Unit II to voluntarily cancel these product registrations. In the March 13, 2013 Notice, EPA indicated that it would issue an order implementing the cancellation of the subject products, unless the Agency received substantive comments within the 30-day comment period that would merit its further review of these requests, or unless the registrant withdrew their request. The Agency did not receive any comments on the notice. Further, the registrant did not withdraw their request. Accordingly, EPA hereby issues in this notice a cancellation order granting the requested cancellations. Any distribution, sale, or use of the products subject to this cancellation order is permitted only in accordance with the terms of this order, including any existing stocks provisions.

DATES: The cancellations are effective August 19, 2015.

FOR FURTHER INFORMATION CONTACT: Caitlin Newcamp, Pesticide Re-Evaluation Division (7508P), Office of Pesticide Programs, Environmental Protection Agency, 1200 Pennsylvania Ave. NW., Washington, DC 20460-0001; telephone number: (703) 347-0325; email address: newcamp.caitlin@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2006-0955, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by the registrant, of products registered under FIFRA section 3 (7 U.S.C. 136a). These registrations are listed in sequence by registration number in Table 1 of this unit.

Table 1—Product Cancellations
EPA Registration No. | Product name | Chemical name
8845-39 | Rid-A-Rat and Mouse Killer | Warfarin.
8845-125 | Hot Shot Sudden Death Brand Mouse Killer | Bromethalin.
8845-126 | Hot Shot Sudden Death Brand Rat Killer 1 | Bromethalin.
8845-127 | Hot Shot Sudden Death Brand Mouse and Rat Killer | Bromethalin.
8845-128 | Hot Shot Sudden Death Brand Mouse Killer Bait Station | Bromethalin.

Table 2 of this unit includes the names and addresses of record for all the registrants of the products in Table 1 of this unit, in sequence by EPA company number. This number corresponds to the first part of the EPA registration numbers of the products listed in Table 1 of this unit.

Table 2—Registrants of Cancelled Products
EPA Company No. | Company name and address
8845 | Spectrum Group, A Division of United Industries, 1 Rider Trail Plaza Drive, Suite 300, Earth City, MO 63045.

III. Summary of Public Comments Received and Agency Response to Comments

During the public comment period provided, EPA received no comments in response to the March 13, 2013 Federal Register (78 FR 15949) (FRL-9379-4) notice announcing the Agency's receipt of the request for voluntary cancellation of products listed in Table 1 of Unit II.

IV. Cancellation Order

Pursuant to FIFRA section 6(f) (7 U.S.C. 136d(f)), EPA hereby approves the requested cancellation of the registrations identified in Table 1 of Unit II. Accordingly, the Agency hereby orders that the product registrations identified in Table 1 of Unit II are canceled. The effective date of the cancellations that are the subject of this notice is August 19, 2015. Any distribution, sale, or use of existing stocks of the products identified in Table 1 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of March 13, 2013 (78 FR 15949). The comment period closed on April 12, 2013.

VI. Provisions for Disposition of Existing Stocks

Existing stocks are those stocks of canceled pesticide products that are in the United States and that were appropriately packaged, labeled, and released for shipment prior to the effective date of cancellation of the underlying registration. The existing stocks provisions for the products subject to this order are as follows.

The registrant is prohibited from selling or distributing existing stocks above as of August 19, 2015, except for export in accordance with FIFRA section 17 (7 U.S.C. 136o), or proper disposal. Persons other than the registrant may sell, distribute, or use existing stocks of products listed above until existing stocks are exhausted, provided that such sale, distribution, or use is consistent with the terms of the previously approved labeling on, or that accompanied, the canceled products.

Authority: 7 U.S.C. 136 et seq.

Dated: July 27, 2015.
Richard P. Keigwin, Jr.,
Director, Pesticide Re-Evaluation Division, Office of Pesticide Programs.

[FR Doc. 2015-20500 Filed 8-18-15; 8:45 am]

BILLING CODE 6560-50-P